DEPARTMENT OF LABOR

Office of the Secretary

Agency Information Collection Activities; Submission for OMB Review; Comment Request; Quick Survey Business Questions Test

ACTION: Notice of availability; request for comments.

SUMMARY: The Department of Labor (DOL) is submitting the Bureau of Labor Statistics (BLS) sponsored information collection request (ICR) reinstatement with change titled, “Quick Survey Business Questions Test,” to the Office of Management and Budget (OMB) for review and approval for use in accordance with the Paperwork Reduction Act (PRA) of 1995. Public comments on the ICR are invited.

DATES: The OMB will consider all written comments that agency receives on or before May 22, 2019.

ADDRESSES: A copy of this ICR with applicable supporting documentation; including a description of the likely respondents, proposed frequency of response, and estimated total burden may be obtained free of charge from the RegInfo.gov website at http://www.reginfo.gov/public/do/PRAViewICR?ref_nbr=201902-1220-002 (this link will only become active on the day following publication of this notice) or by contacting Michel Smyth by telephone at 202-693-4129, TTY 202-693-8064, (these are not toll-free numbers) or sending an email to DOL_PRA_PUBLIC@dol.gov.

Submit comments about this request by mail or courier to the Office of Information and Regulatory Affairs, Attn: OMB Desk Officer for DOL-BLS, Office of Management and Budget, Room 10235, 725 17th Street NW, Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW, Washington, DC 20210; or by email: DOL_PRA_PUBLIC@dol.gov.

FOR FURTHER INFORMATION CONTACT: Michel Smyth by telephone at 202-693-4129, TTY 202-693-8064, (these are not toll-free numbers) or sending an email to DOL_PRA_PUBLIC@dol.gov.

SUPPLEMENTARY INFORMATION: This ICR seeks approval under the PRA for a reinstatement with change to the Quick Survey Business Questions Test. The Bureau of Labor Statistics (BLS) will conduct a second Operations Test of a Quick Business Survey (QBS). The BLS will conduct this test to build on the results of the prior test to further evaluate QBS survey processes and operations in a possible production environment. If successful, a QBS would allow the BLS to collect information about the U.S. Economy in a more efficient manner than is currently possible and would allow data users to understand the impact of specific events on the economy in a timely manner. This information collection request allows the agency to use a revised version of the same information collection under the OMB Control Number provided with the original approval and has been classified as a reinstatement with change, because:

• A previously approved collection has expired or, the agency subsequently decided to discontinue. This request allows the agency to use a revised version of the same information collection under the OMB Control Number provided with the original approval.

• The agency made a change to the ICR by increasing the sample size in order to test refined sampling methodologies.

• The agency updated the employer costs for wages, salaries, and benefits using more current (September 2018) data.

The BLS Authorizing Statute authorizes this information collection. See 29 U.S.C 1, 2.

This proposed information collection is subject to the PRA. A Federal agency generally cannot conduct or sponsor a collection of information, and the public is generally not required to respond to an information collection unless it is approved by the OMB under the PRA and displays a currently valid OMB Control Number. In addition, notwithstanding any other provisions of law, no person shall generally be subject to penalty for failing to comply with a collection of information if the collection of information does not display a valid Control Number. See 5 CFR 1320.5(a) and 1320.6. For additional substantive information about this ICR, see the related notice published in the Federal Register on December 28, 2018 (83 FR 67360).

Interested parties are encouraged to send comments to the OMB, Office of Information and Regulatory Affairs at the address shown in the ADDRESSES section within thirty (30) days of publication of this notice in the Federal Register. In order to help ensure appropriate consideration, comments should mention OMB Control Number 1220-0192. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-BLS.

Title of Collection: Quick Survey Business Questions Test.

OMB Control Number: 1220-0192.

Affected Public: Private Sector.

Total Estimated Number of Respondents: 26,286.

Total Estimated Number of Responses: 26,286.

Total Estimated Annual Time Burden: 1,314 hours.

Total Estimated Annual Other Costs Burden: $0.

Authority: 44 U.S.C. 3507(a)(1)(D).

Frederick Licari,
Deputy Departmental Clearance Officer.

[FR Doc. 2019-08001 Filed 4-19-19; 8:45 am]

BILLING CODE 4510-HX-P